NUCLEAR REGULATORY COMMISSION

[Docket Nos. 50-338 and 50-339, Docket Nos. 50-280 and 50-281, NRC-2010-0116]

Virginia Electric and Power Company, North Anna Power Station, Unit Nos. 1 and 2, Surry Power Station, Unit Nos. 1 and 2; Environmental Assessment and Finding of No Significant Impact

The U.S. Nuclear Regulatory Commission (NRC) is considering issuance of an exemption from Title 10 of the Code of Federal Regulations (10 CFR), Part 20, Subpart N, Section 20.2301, associated with Section 20.1703(a), 20.1703(b), Section 20.1703(g) and Subpart O—“Enforcement,” Appendix A to Part 20,“Assigned Protection Factors For Respirators,” Footnote “a” for Facility Operating License Nos. NPF-4, NPF-7, DPR-32, and DPR-37 issued to Virginia Electric and Power Company (the licensee), for operation of the North Anna Power Station, Unit Nos. 1 and 2 (NAPS), and Surry Power Station, Unit Nos. 1 and 2 (SPS), located in Louisa, Virginia, and Surry, Virginia, respectively. Therefore, as required by 10 CFR 51.21, the NRC performed an environmental assessment. Based on the results of the environmental assessment, the NRC is issuing a finding of no significant impact.

Environmental Assessment

Identification of the Proposed Action

The proposed action would permit the licensee the use of Mine Safety Appliance Company (MSA) Firehawk Air Mask (FireHawk) Self-Contained Breathing Apparatus (SCBA) charged with 35 percent oxygen/65 percent nitrogen when making sub-atmospheric containment entries at NAPS and SPS.

The proposed action is in accordance with the licensee's application dated November 24, 2009.

The Need for the Proposed Action

The proposed exemption is necessary to remove the prohibition against using supplemental oxygen delivered by SCBA that has not been tested/certified by the National Institute of Occupational Safety and Health.

Environmental Impacts of the Proposed Action

The NRC has completed its evaluation of the proposed action and concludes that the proposed action to use an MSA Firehawk SCBA charged with 35 percent oxygen/65 percent nitrogen when making sub-atmospheric containment entries would not significantly affect plant safety and would not have a significant adverse effect on the probability of an accident occurring.

The details of the staff's safety evaluation will be provided in the exemption that will be issued as part of the letter to the licensee providing the NRC's determination on the exemption to the regulation.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have any foreseeable impacts to land, air, or water resources, including impacts to biota. In addition, there are also no known socioeconomic or environmental justice impacts associated with such proposed action. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the “no-action” alternative are similar.

Alternative Use of Resources

The action does not involve the use of any different resources than those previously considered in the “Final Environmental Statement Related to the Continuation of Construction and the Operation” for NAPS dated April 1973, and SPS dated May 1972 and June 1972, respectively, as supplemented through the “Generic Environmental Impact Statement for License Renewal of Nuclear Plants: Supplements 6 and 7 Regarding SPS and NAPS—Final Report (NUREG-1437, Supplements 6 and 7),” dated November 2002.

Agencies and Persons Consulted

In accordance with its stated policy, on February 3, 2010, the NRC staff consulted with the Virginia State official, Mr. Leslie Foldesi, Division of Radiological Health of the Virginia Department of Health, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated November 24, 2009. Documents may be examined, and/or copied for a fee, at the NRC's Public Document Room (PDR), located at One White Flint North, Public File Area O1 F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 16th day of March 2010.
For the Nuclear Regulatory Commission.
Karen Cotton,
Project Manager, Plant Licensing Branch 2-I, Division of Operating Reactor Licensing, Office of Nuclear Reactor Regulation.

[FR Doc. 2010-6199 Filed 3-19-10; 8:45 am]

BILLING CODE 7590-01-P